DEPARTMENT OF THE INTERIOR

Bureau of Land Management

[LLCAD07000.51010000.ER0000.LVRWB09B1670 18X; CACA-44014, CACA-56477; MO#4500141327]

Notice of Availability of the Record of Decision for the United States Gypsum Company Mine Expansion/Modernization Project, Imperial County, CA

AGENCY: Bureau of Land Management, Interior.

ACTION: Notice of availability.

SUMMARY: In accordance with the National Environmental Policy Act of 1969, as amended, the Federal Land Policy and Management Act of 1976, as amended, the Bureau of Land Management (BLM) has prepared a Record of Decision (ROD) to approve a Mining Plan of Operations and authorize Rights-of-Way (ROW) for the United States Gypsum Company Mine Expansion/Modernization Project, and by this Notice is announcing its availability.

DATES: The Acting Assistant Secretary for Lands and Minerals Management signed the ROD on January 24, 2020.

ADDRESSES: Copies of the ROD are available for public inspection at the BLM El Centro Field Office at 1661 S 4th St, El Centro, CA 92243, and at the BLM California Desert District Office, 22835 Calle San Juan de Los Lagos, Moreno Valley, CA 92553. Interested persons may also review the ROD on the internet at: https://bit.ly/2QiGK0m.

FOR FURTHER INFORMATION CONTACT: Miriam Liberatore, BLM Project Manager, by telephone at 541-618-2412; by mail at Bureau of Land Management, Medford District Office, 3040 Biddle Road, Medford, OR 97504; or by email at mliberat@blm.gov.

Persons who use a telecommunications device for the deaf (TDD) may call the Federal Relay Service (FRS) at 1-800-877-8339 to contact Ms. Liberatore during normal business hours. The FRS is available 24 hours a day, 7 days a week, to leave a message or question. You will receive a reply during normal business hours.

SUPPLEMENTARY INFORMATION: The Project is located in southwestern Imperial County, California, and involves both the Plaster City Wallboard Plant (processing plant) and Plaster City Quarry (quarry). The processing plant is located on Evan Hewes Highway approximately 18 miles west of the city of El Centro. The quarry is located on Split Mountain Road, approximately 26 miles northwest of Plaster City. Both sites are located within the BLM's California Desert Conservation Area.

The BLM and Imperial County published a joint Draft Environmental Impact Report/Environmental Impact Statement (EIR/EIS) in 2006, and a Final EIR/EIS in 2008. The BLM did not issue a ROD and the United States Army Corps of Engineers (USACE), which will determine whether to issue a permit for the project under Section 404 of the Clean Water Act, was not a party to the Final EIR/EIS. This Supplemental EIS revises and supplements the 2008 Final EIR/EIS, updating conditions and effects that have changed since 2008, and includes the USACE and the United States Environmental Protection Agency, which has an advisory role regarding the Section 404 permit, as Cooperating Agencies.

Certain aspects of the Project originally analyzed in the 2006 Draft EIR/EIS and 2008 Final EIR/EIS have already been implemented under the conditions and approvals provided by Imperial County and were not subject to the jurisdiction of the BLM or the USACE.

The BLM published a Notice of Intent to prepare the Supplemental EIS on November 27, 2017 (82 FR 56046), initiating a 30-day public scoping period. The BLM held a public scoping meeting on December 13, 2017, in El Centro, California. Twelve individuals attended that meeting. Thirteen comments were received during the scoping period.

The BLM published a Notice of Availability of the Draft Supplemental EIS on July 19, 2019 (84 FR 34924), announcing a 45-day public comment period. The BLM held a public comment meeting on August 5, 2019. Seven individuals attended that meeting. The BLM received 13 comment letters during the comment period. Following the public comment period, comments were used to inform the Final Supplemental EIS. The BLM responded to substantive comments and made appropriate revisions to the document or explained why a comment did not warrant a change. These comments did not result in changes in the design, location, or timing of the Project in a way that would cause significant effects to the human environment outside of the range of effects analyzed in the EIS/EIR. Similarly, none of the letters identified new significant circumstances or information relevant to environmental concerns that bear on the Project and its effects. A response to substantive comments is included in the Final Supplemental EIS, released on December 6, 2019.

The Supplemental EIS considered the Proposed Action, a No-Action Alternative, and six action alternatives. Alternative 1, Proposed Action, would expand the quarry as described in the Mining Plan of Operations, replace the existing waterline, and install a new waterline between the quarry and the new well. Alternative 2, No Action Alternative, would continue operations as they currently are permitted without expanding the quarry or replacing the existing waterline. Alternative 3, Partial Imperial Irrigation District (IID) Water Supply, would provide for a new waterline between the processing plant and the IID Westside Main Canal to partially replace processing water from a groundwater source with a surface water source. Alternative 4, Full IID Water Supply, would fully replace the processing water with surface water. Alternatives 5 through 8 are variations on the mining plan proposed in the Mining Plan of Operations. The BLM identified Alternative 3, Partial IID Water Supply, as the Agency-Preferred Alternative in the Final Supplemental EIS.

With this ROD, the BLM adopts the Agency Preferred Alternative. The Acting Assistant Secretary for Lands and Minerals Management approval of this decision is not subject to administrative appeal under Departmental regulations at 43 CFR part 4 pursuant to 43 CFR 4.410(a)(3). Any challenge to this decision must be brought in Federal District Court and is subject to 42 U.S.C. 4370m-6(a)(1).

Authority: 40 CFR 1506.6; 40 CFR 1506.10; 43 CFR 1610.2, 42 U.S.C. 4370m-6(a)(1)

Joe Stout,
Acting State Director.

[FR Doc. 2020-01669 Filed 1-30-20; 8:45 am]

BILLING CODE 4310-HC-P